FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 28, 2007.

A. Federal Reserve Bank of Cleveland (Cindy West, Manager) 1455 East Sixth Street, Cleveland, Ohio 44101-2566:

1. Bob Hutchinson, Paintsville, Kentucky; to acquire up to 10.5 percent of the voting shares of Citizens National Corporation, and thereby indirectly acquire shares of Citizens National Bank of Paintsville, both of Paintsville, Kentucky.

Board of Governors of the Federal Reserve System, June 8, 2007.
Robert deV. Frierson,
Deputy Secretary of the Board.

[FR Doc. E7-11380 Filed 6-12-07; 8:45 am]

BILLING CODE 6210-01-S